DEPARTMENT OF COMMERCE

National Telecommunications and Information Administration; Notice of a Cooperative Agreement with EDUCAUSE for Management of .edu Domain Name Space

AGENCY: National Telecommunications and Information Administration (NTIA), Commerce.

ACTION: Notice of a cooperative agreement with EDUCAUSE.

SUMMARY: The National Telecommunications and Information Administration (NTIA) announces that it intends to enter into a cooperative agreement for the management of the .edu domain name space with EDUCAUSE, an association whose mission is to represent the policy, strategy, and operations interests for networking and information technology needs of higher education institutions. This cooperative agreement will facilitate policy development and technical operations of the .edu domain by a single responsible entity and provide a framework for the administration of the .edu domain.

The transition of operational and policy implementation functions for the .edu domain through a cooperative agreement to a single entity with strong ties to the education community is intended to constitute the selection of a successor registry for the .edu domain as described in Amendment 21 of Cooperative Agreement NCR 92-18742 ¹ and is consistent with policies outlined in the Department of Commerce's Statement of Policy, often referred to as the White Paper.²

¹ Cooperative Agreement, as amended, NCR-9218742, see especially Amendment 21, available at www.ntia.doc.gov/ntiahome/domainname/agreements/amendment21.htm.

² See Management of Internet Names and Addresses, Statement of Policy, National Telecommunications and Information Administration, Department of Commerce, 63 FR 31741 (June 10, 1998).

Authority: National Science Foundation Act of 1950, as amended, 42 U.S.C. 1861-75, and specifically 42 U.S.C. 1870(c), (j); National Telecommunications and Administrative Organization Act, 47 U.S.C. 901 et seq.; and Presidential Memorandum of Electronic Commerce, A Framework for Global Electronic Commerce, 33 Weekly Comp. Presidential Documents 1006 (July 1, 1997), which directs the Secretary of Commerce to transition Domain Name System management to the private sector.

Background

The .edu domain is the top level domain (TLD) of the Internet domain name system (DNS) that was established for use by educational institutions. Currently, it is generally restricted to use by four-year degree granting higher education institutions. Community and two-year colleges are not currently eligible for a .edu domain, although through the award of this cooperative agreement EDUCAUSE intends to implement a policy more responsive to the needs of this community. Also, higher educational institutions are generally restricted to one .edu registration. Network Solutions currently provides registry/registrar services for the .edu domain names pursuant to Cooperative Agreement NCR-9218742 with the Department. The cooperative agreement will be made exclusively with EDUCAUSE. No other administering organization is being solicited with this notice. EDUCAUSE has the requisite technical and organizational capability as well as the educational community support to appropriately administer .edu. EDUCAUSE is a non-profit organization that emerged from the consolidation of two prominent higher education technology associations—CAUSE and Educom—since 1964. As an association with over 1,800 college and university members, it has represented the developers of the campus, regional, and national networking for higher education. EDUCAUSE currently operates an extensive web-based information system for external and internal communications with members of the public. One of EDUCAUSE's primary purposes is improving and transforming the use of information technology resources across college and university campuses. EDUCAUSE is uniquely qualified and best able to administer the .edu domain name space because of the following factors:

• EDUCAUSE is a non-profit association that advocates the development and management of networking for higher education and has widespread community respect on issues of Internet policy and technology. It represents information technology issues for higher education.

• With membership of over 1,800 higher educational institutions, EDUCAUSE has the support of significantly interested parties to implement the policy and be the technical administrator of the .edu domain. Specifically, EDUCAUSE's proposal to administer the .edu domain name space has the support of the American Council on Education, Association of American Universities, National Association of State Universities and Land Grant Colleges, American Association of State Colleges and Universities, Council of Independent Colleges, and the American Association of Community Colleges. EDUCAUSE is committed to and has demonstrated that it will represent the interests of .edu stakeholders while administering .edu through a transparent and open policy development process.

• EDUCAUSE has a unique background in higher education institutional technology, resources and networking, and is technically capable of managing the .edu domain services ensuring continued stability of the .edu domain name space.

This cooperative agreement will be awarded for a 5-year period to be renewed indefinitely upon satisfactory performance. The cooperative agreement will be at no cost to the Federal government, and EDUCAUSE will only be able to recover its cost of administering the .edu domain services. Continuation awards within the project period will be made on the basis of satisfactory progress.

FOR FURTHER INFORMATION CONTACT: Stacy Cheney, Office of Chief Counsel, National Telecommunications and Information Administration, telephone (202) 482-1816; or electronic mail, scheney@ntia.doc.gov.

Dated: April 6, 2001.
Kathy Smith,
Chief Counsel.

[FR Doc. 01-8980 Filed 4-11-01; 8:45 am]

BILLING CODE 3510-60-P